DEPARTMENT OF AGRICULTURE

Submission for OMB Review; Comment Request

May 5, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: 7 CFR Part 3565, “Guaranteed Rural Rental Housing Program” and Its' Supporting Handbook.

OMB Control Number: 0575-0174.

Summary of Collection: On March 26, 1996, the Housing Opportunity Program Extension Act of 1996 was signed. One of the provisions of the Act was the authorization of the section 538 Guaranteed Rural Rental Housing Program (GRRHP), adding the program to the Housing Act of 1949. The purpose of the GRRHP is to increase the supply of affordable rural rental housing through the use of loan guarantees that encourage partnerships between the Rural Housing Service (RHS), private lenders and public agencies. RUS will approve qualified lenders to participate and monitor lender performance to ensure program requirements are met. RHS will collect information from lenders on the eligibility cost, benefits, feasibility, and financial performance of the proposed project.

Need and Use of the Information: RHS will collect information from lenders to manage, plan, evaluate, and account for Government resources and from time to time, propose demonstration programs that use loan guarantees or interest credit. The GRRHP regulation and handbook will provide lenders and agency staff with guidance on the origination, and servicing of GRRHP loans and the approval of qualified lenders. RHS will use the information to evaluate a lender's request and make determination that the interests of the government are protected. Failure to collect information could have an adverse impact on the agency ability to monitor lenders and assess program effectiveness and effectively guarantee loans.

Description of Respondents: Business or other for-profit; Not-for-profit Institutions.

Number of Respondents: 150.

Frequency of Responses: Reporting: Quarterly; Monthly; Annually.

Total Burden Hours: 1,492.

Charlene Parker,
Departmental Information Collection Clearance Officer.

[FR Doc. 2011-11491 Filed 5-10-11; 8:45 am]

BILLING CODE 3410-XT-P